DEPARTMENT OF ENERGY

Federal Energy Regulatory Commission

Combined Notice of Filings #1

Take notice that the Commission received the following electric rate filings:

Docket Numbers: ER10-2398-004; ER10-2399-004; ER10-2423-007; ER10-2404-007; ER14-1933-004; ER10-2406-005; ER10-2408-004; ER10-2409-004; ER10-2410-004; ER10-2411-005; ER10-2412-005; ER10-2414-005; ER11-2935-006; ER13-1816-004.

Applicants: Blackstone Wind Farm, LLC, Blackstone Wind Farm II LLC, Flat Rock Windpower LLC, Flat Rock Windpower II LLC, Headwaters Wind Farm LLC, High Trail Wind Farm, LLC, Marble River, LLC, Meadow Lake Wind Farm II LLC, Meadow Lake Wind Farm III LLC, Meadow Lake Wind Farm IV LLC, Meadow Lake Wind Farm LLC, Old Trail Wind Farm, LLC, Paulding Wind Farm II LLC, Sustaining Power Solutions LLC.

Description: Notice of Non-Material Change in Status of Blackstone Wind Farm, LLC, et al.

Filed Date: 8/10/16.

Accession Number: 20160810-5257.

Comments Due: 5 p.m. ET 8/31/16.

Docket Numbers: ER10-2564-006; ER10-2600-006; ER10-2289-006.

Applicants: Tucson Electric Power Company, UNS Electric, Inc., UniSource Energy Development Company.

Description: Second Supplement to December 31, 2015 Triennial Market Power Update for the Southwest Region of the Fortis, Inc. subsidiaries, et al.

Filed Date: 8/11/16.

Accession Number: 20160811-5192.

Comments Due: 5 p.m. ET 10/11/16.

Docket Numbers: ER16-736-004.

Applicants: PJM Interconnection, L.L.C.

Description: Compliance filing: Compliance filing to July 11, 2016 order in Docket Nos. ER16-736 and EL16-96 to be effective 4/14/2016.

Filed Date: 8/10/16.

Accession Number: 20160810-5207.

Comments Due: 5 p.m. ET 8/31/16.

Docket Numbers: ER16-1827-001.

Applicants: GenOn Energy Management, LLC.

Description: Tariff Amendment: Response to Deficiency Letter to be effective 6/1/2016.

Filed Date: 8/11/16.

Accession Number: 20160811-5090.

Comments Due: 5 p.m. ET 9/1/16.

Docket Numbers: ER16-2400-000.

Applicants: PacifiCorp.

Description: Compliance filing: OATT Revised Attachments N & O (Orders 827 & 828) to be effective 10/14/2016.

Filed Date: 8/10/16.

Accession Number: 20160810-5208.

Comments Due: 5 p.m. ET 8/31/16.

Docket Numbers: ER16-2401-000.

Applicants: PJM Interconnection, LLC.

Description: Compliance filing: Compliance filing to July 11, 2016 order in Docket Nos. ER16-736 and EL16-96 to be effective 10/10/2016.

Filed Date: 8/10/16.

Accession Number: 20160810-5217.

Comments Due: 5 p.m. ET 8/31/16.

Docket Numbers: ER16-2402-000.

Applicants: UGI Utilities Inc.

Description: Market-Based Triennial Review Filing: Triennial Market Power Analyses and Change in Status to be effective 10/10/2016.

Filed Date: 8/11/16.

Accession Number: 20160811-5051.

Comments Due: 5 p.m. ET 10/11/16.

Docket Numbers: ER16-2403-000.

Applicants: UGI Development Company.

Description: Market-Based Triennial Review Filing: Triennial Market Power Analyses and Change in Status to be effective 10/10/2016.

Filed Date: 8/11/16.

Accession Number: 20160811-5054.

Comments Due: 5 p.m. ET 10/11/16.

Docket Numbers: ER16-2404-000.

Applicants: UGI Energy Services, Inc.

Description: Market-Based Triennial Review Filing: Triennial Market Power Analyses and Change in Status to be effective 10/10/2016.

Filed Date: 8/11/16.

Accession Number: 20160811-5056.

Comments Due: 5 p.m. ET 10/11/16.

Docket Numbers: ER16-2405-000.

Applicants: NRG Rockford II LLC.

Description: Section 205(d) Rate Filing: Notice of Succession and Revisions to Market-Based Rate Tariff to be effective 7/14/2016.

Filed Date: 8/11/16.

Accession Number: 20160811-5123.

Comments Due: 5 p.m. ET 9/1/16.

Docket Numbers: ER16-2406-000.

Applicants: NRG Rockford LLC.

Description: § 205(d) Rate Filing: Notice of Succession and Revisions to Market-Based Rate Tariff to be effective 7/13/2016.

Filed Date: 8/11/16.

Accession Number: 20160811-5124.

Comments Due: 5 p.m. ET 9/1/16.

Docket Numbers: ER16-2407-000.

Applicants: Consumers Energy Company, Midcontinent Independent System Operator, Inc.

Description: Section 205(d) Rate Filing: 2016-08-11_SA 2913 WPSC-Consumers Amended FCA (J392) to be effective 4/8/2016.

Filed Date: 8/11/16.

Accession Number: 20160811-5141.

Comments Due: 5 p.m. ET 9/1/16.

Docket Numbers: ER16-2408-000.

Applicants: Midcontinent Independent System Operator, Inc.

Description: Notice of Termination of Large Generator Interconnection Agreement designated Project No. G686, Original Service Agreement No. 1882 of Midcontinent Independent System Operator, Inc.

Filed Date: 8/11/16.

Accession Number: 20160811-5152.

Comments Due: 5 p.m. ET 9/1/16.

Docket Numbers: ER16-2409-000.

Applicants: Aurora Generation, LLC.

Description: Section 205(d) Rate Filing: Notice of Succession and Revised Rate Schedule to be effective 7/12/2016.

Filed Date: 8/11/16.

Accession Number: 20160811-5191.

Comments Due: 5 p.m. ET 9/1/16.

Take notice that the Commission received the following public utility holding company filings:

Docket Numbers: PH16-12-000.

Applicants: New Jersey Resources Corporation.

Description: New Jersey Resources Corporation submits FERC 65-A Notice of Non Material Change in Facts of Exemption Notification.

Filed Date: 8/10/16.

Accession Number: 20160810-5224.

Comments Due: 5 p.m. ET 8/31/16.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2016.
Nathaniel J. Davis, Sr.,
Deputy Secretary.

[FR Doc. 2016-19568 Filed 8-16-16; 8:45 am]

BILLING CODE 6717-01-P